Executive Order 13267 of June 20, 2002

Establishing a Transition Planning Office for the Department of Homeland Security Within the Office of Management and Budget

By the authority vested in me as President by the Constitution and the laws of the United States of America, it is hereby ordered as follows:

Section 1. Establishment. I hereby establish within the Office of Management and Budget (OMB) a Transition Planning Office for the Department of Homeland Security (the “Transition Planning Office”), to be headed by the Director of the Transition Planning Office for the Department of Homeland Security (the “Director for Transition Planning”).

Sec. 2. Missions. The missions of the Transition Planning Office shall be to:

(a) coordinate, guide, and conduct transition and related planning throughout the executive branch of the United States Government in preparation for establishment of the proposed Department of Homeland Security; and

(b) consistent with Presidential guidance, work with the Congress as it considers legislation to establish that Department.

Sec. 3. Administration. (a) The Director of OMB shall ensure that the Transition Planning Office receives appropriate personnel (including detailees and assignees, as appropriate), funding, and administrative support for the Office, subject to the availability of appropriations. The Director of OMB is authorized to make expenditures under section 522 of title 31, United States Code, as may be appropriate to carry out this order.

(b) If an individual who is an Assistant to the President is appointed to serve simultaneously as Director for Transition Planning, the functioning, personnel, funds, records, and property of the office of the Assistant to the President and the office of the Director for Transition Planning shall be kept separate in the same manner as if the two offices were headed by two different individuals.

Sec. 4. Other Departments and Agencies. This order does not alter the existing authorities of United States Government departments and agencies. In carrying out the missions set forth in section 2 of this order, all executive departments and agencies are directed to assist the Director for Transition Planning and the Transition Planning Office to the extent permitted by law.

Sec. 5. Termination. The Transition Planning Office, and all the authorities of this order, shall terminate within 90 days after the date on which legislation creating the Department of Homeland Security is enacted, or within 1 year of the date of this order, whichever occurs first.

B

THE WHITE HOUSE,

June 20, 2002.

[FR Doc. 02-16041

Filed 6-21-01; 8:45 am]

Billing code 3195-01-P